DEPARTMENT OF HEALTH AND HUMAN SERVICES

Food and Drug Administration

[Docket No. 90F-0157]

Minnesota Mining and Manufacturing Co.; Withdrawal of Food Additive Petition

AGENCY: Food and Drug Administration, HHS.

ACTION: Notice.

SUMMARY: The Food and Drug Administration (FDA) is announcing the withdrawal, without prejudice to a future filing, of a food additive petition (FAP 0B4206) proposing that the food additive regulations be amended to provide for the safe use of a perfluoroalkyl acrylate copolymer, produced by the copolymerization of ethanaminium, N,N,N-trimethyl-2-[(2-methyl-1-oxo-2-propenyl)oxy]-, chloride; 2-propenoic acid, 2-methyl-, oxiranylmethyl ester; 2-propenoic acid, 2-ethoxyethyl ester; and 2-propenoic acid, 2[[(heptadecafluorooctyl) sulfonyl]methylamino] ethyl ester, as a component of paper and paperboard in contact with nonalcoholic foods at high temperatures, including the use in microwave heat susceptor packaging.

FOR FURTHER INFORMATION CONTACT: Edward J. Machuga, Center for Food Safety and Applied Nutrition (HFS-215), Food and Drug Administration, 200 C St. SW., Washington, DC 20204, 202-418-3085.

SUPPLEMENTARY INFORMATION: In a notice published in the Federal Register of May 22, 1990 (55 FR 21102), FDA announced that a food additive petition (FAP 0B4206) had been filed by Minnesota Mining and Manufacturing Co., 3M Center, St. Paul, MN 55144-1000. The petition proposed to amend the food additive regulations to provide for the safe use of perfluoroalkyl acrylate copolymer, produced by the copolymerization of ethanaminium, N,N,N-trimethyl-2-[(2-methyl-1-oxo-2-propenyl)oxy]-, chloride; 2-propenoic acid, 2-methyl-, oxiranylmethyl ester; 2-propenoic acid, 2-ethoxyethyl ester; and 2-propenoic acid, 2[heptadecafluorooctyl) sulfonyl] methylamino] ethyl ester, as a component of paper and paperboard in contact with nonalcoholic foods at high temperatures, including the use in microwave heat susceptor packaging. Minnesota Mining and Manufacturing Co. has now withdrawn the petition without prejudice to a future filing (21 CFR 171.7).

Dated: June 22, 2000.
Alan M. Rulis,
Director, Office of Premarket Approval, Center for Food Safety and Applied Nutrition.

[FR Doc. 00-17602 Filed 7-11-00; 8:45 am]

BILLING CODE 4160-01-F